FEDERAL COMMUNICATIONS COMMISSION

[FRS 17465]

Federal Advisory Committee Act; Communications Security, Reliability, and Interoperability Council

AGENCY: Federal Communications Commission.

ACTION: Notice of public meeting.

SUMMARY: In accordance with the Federal Advisory Committee Act, this notice advises interested persons that the Federal Communications Commission's (FCC or Commission) Communications Security, Reliability, and Interoperability Council (CSRIC) VII will hold its eighth and final meeting via live internet link.

DATES: March 10, 2021.

ADDRESSES: The Meeting will be held via conference call and available to the public via WebEx at http://www.fcc.gov/live.

FOR FURTHER INFORMATION CONTACT: Suzon Cameron, Designated Federal Officer, (202) 418-1916 (voice) or CSRIC@fcc.gov (email); or, Kurian Jacob, Deputy Designated Federal Officer, (202) 418-2040 (voice) or CSRIC@fcc.gov (email).

SUPPLEMENTARY INFORMATION: The meeting on March 10, 2021, from 1:00 p.m. EDT to 5:00 p.m. EST will be held electronically only and may be viewed live, by the public, at http://www.fcc.gov/live. Any questions that arise during the meeting should be sent to CSRIC@fcc.gov and will be answered at a later date. The meeting is being held in a wholly electronic format in light of travel and gathering restrictions related to COVID-19 in place in Washington, DC, and the larger U.S., which affect members of CSRIC and the FCC.

The CSRIC is a Federal Advisory Committee that will provide recommendations to the FCC to improve the security, reliability, and interoperability of communications systems. On March 15, 2019, the FCC, pursuant to the Federal Advisory Committee Act, renewed the charter for CSRIC VII for a period of two years through March 14, 2021. The meeting on March 10, 2021, will be the eighth and final meeting of CSRIC VII under the current charter.

The Commission will provide audio and/or video coverage of the meeting over the internet from the FCC's web page at http://www.fcc.gov/live. The public may submit written comments before the meeting to Suzon Cameron, CSRIC VII Designated Federal Officer, by email to CSRIC@fcc.gov.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted but may be impossible to fill.

Federal Communications Commission.
Marlene Dortch,
Secretary.

[FR Doc. 2021-02977 Filed 2-12-21; 8:45 am]

BILLING CODE 6712-01-P